DEPARTMENT OF LABOR

Employment and Training Administration

[TA-W-81,313]

Wyatt VI, Inc., A Division of Wyatt Field Service Company, Working On-Site at Hovensa Oil Refinery, Christiansted, St. Croix, VI; Notice of Affirmative Determination Regarding Application for Reconsideration

By application dated May 18, 2012, a worker requested administrative reconsideration of the negative determination regarding workers' eligibility to apply for Trade Adjustment Assistance (TAA) applicable to workers and former workers of Wyatt VI, Inc., a division of Wyatt Field Service Company, working on-site at Hovensa Oil Refinery, Christiansted, St. Croix, Virgin Islands (subject firm). The determination was issued on April 6, 2012, and the Department's Notice of determination was published in the Federal Register on April 19 (77 FR 23511). The workers' firm supplies maintenance services for the petrochemical industry.

The initial investigation resulted in a negative determination based on the findings that the subject firm did not shift the supply of maintenance services to a foreign country, nor did the subject firm or its customers increase reliance on imported maintenance services.

The Department has carefully reviewed the request for reconsideration and the existing record, and will conduct further investigation to determine if the workers meet the eligibility requirements of the Trade Act of 1974, as amended.

Conclusion

After careful review of the application, I conclude that the claim is of sufficient weight to justify reconsideration of the U.S. Department of Labor's prior decision. The application is, therefore, granted.

Signed at Washington, DC, this 26th day of June, 2012.
Del Min Amy Chen,
Certifying Officer, Office of Trade Adjustment Assistance.

[FR Doc. 2012-16738 Filed 7-9-12; 8:45 am]

BILLING CODE 4510-FN-P